DEPARTMENT OF VETERANS AFFAIRS

VA Prevention of Fraud, Waste, and Abuse Advisory Committee; Notice of Meeting

The Department of Veterans Affairs (VA) gives notice under the Federal Advisory Committee Act that the VA Prevention of Fraud, Waste, and Abuse Advisory Committee will meet on November 7, 2017, at 810 Vermont Avenue NW., Sonny Montgomery Conference Room 230, Washington, DC, from 8:00 a.m. until 5:00 p.m. (EST). All sessions will be open to the public.

The purpose of the Committee is to advise the Secretary, through the Assistant Secretary for Management and Chief Financial Officers, on matters relating to improving and enhancing VA's efforts to identify, prevent, and mitigate fraud, waste, and abuse across VA in order to improve the integrity of VA's payments and the efficiency of its programs and activities.

The agenda will include briefings from the Deputy Secretary of VA, the Advisory Committee Management Office, the Office of General Counsel, presentations on VA's programs, and an overview of committee objectives, committee business, and activities.

Time will be allocated for receiving comment from the public in the afternoon. A sign-up sheet for 5-minute comments will be available at the meeting. For interested parties who cannot attend in person, the dial-in number is (800) 767-1750, access code 030905#. Note: The telephone line will be muted until the Committee Chairman opens the floor for public comment. Individuals who wish to address the Committee may submit a 1-2 page summary of their comments for inclusion in the official meeting record. Members of the public may also submit written statements for the Committee's review to Tamika Barrier via email at tamika.barrier@va.gov.

Because the meeting is being held in a government building, a photo I.D. must be presented as part of the clearance process. Therefore, any person attending should allow an additional 30 minutes before the meeting begins. Any member of the public seeking additional information should contact Tamika Barrier, Designated Federal Officer, at (757) 254-8630.

Dated: October 3, 2017.
Jelessa M. Burney,
Federal Advisory Committee Management Officer.

[FR Doc. 2017-21696 Filed 10-6-17; 8:45 am]

BILLING CODE P